DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Denton County Transportation Authority (Waiver Petition Docket Number FRA-2010-0180)

The Denton County Transportation Authority (DCTA) seeks a temporary waiver from some of the regulatory requirements of the CFR to operate new Stadler 2/6 GTW Diesel Multiple Units (DMUs) for use on its new ``A-train'' commuter rail service. This temporary relief is necessary so that DCTA can conduct vehicle acceptance, employee training, and equipment familiarization until such time that a second waiver request, relating to Alternate Vehicle Technology (AVT), is submitted.

DCTA has ordered 11 Stadler Bussnang AG, GTW 2/6 DMUs (the first of which will arrive in July 2011) for use on its new ``A-train'' commuter rail service between Dallas and Denton, TX. These vehicles are constructed by a European manufacturer and meet European safety standards for crashworthiness and related safety measures. DCTA submitted the first petition for relief (the “Base Waiver”) in which it sought relief from certain requirements of 49 CFR Part 238, Passenger Equipment Safety Standards (Sections 238.115, 238.121, 238.223, 238.229, 238.230, 238.305, 238.309, and Appendix D—Requirements for External Fuel Tanks on Tier I Locomotives); part 229, Railroad Locomotive Safety Standards (§§ 229.31, 229.47, 229.51, 229.71, 229.135, and Appendix D—Criteria for Certification of Crashworthy Event Recorder Memory Module); part 231, Railroad Safety Appliance Standards (§ 231.14); and part 239, Passenger Train Emergency Preparedness (§ 239.101). FRA rendered its decision in a July 13, 2011, letter.

DCTA is currently in the process of developing the technical justification documentation to petition FRA for an AVT compliance waiver for use of this equipment on main tracks.

Until such documentation is submitted, DCTA would like to operate this equipment so it can conduct vehicle acceptance, employee training, and equipment familiarization. DCTA will implement temporal separation, and seeks temporary relief from certain requirements of 49 CFR, particularly § 238.203—Static end strength; § 238.205—Anti-climbing mechanism; § 238.207—Link between coupling mechanism and car body; § 238.209—Forward end structure of locomotives, including cab cars and MU locomotives; § 238.211—Collision posts; § 238.213—Corner posts; § 238.215—Rollover strength; § 238.217—Side structure; § 238.219—Truck-to-car-body attachment; and § 238.233—Interior fittings and surfaces.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0180) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review the U.S. Department of Transportation's complete Privacy Act Statement in the Federal Register published on April 11, 2000 (Volume 65, Number 70; Pages 19477-78) or online at http://www.dot.gov/privacy.html.

Issued in Washington, DC on August 1, 2011.
Robert C. Lauby,
Deputy Associate Administrator for Regulatory and Legislative Operations.

[FR Doc. 2011-19827 Filed 8-4-11; 8:45 am]

BILLING CODE 4910-06-P